DEPARTMENT OF ENERGY

Federal Energy Regulatory Commission

Notice of Effectiveness of Exempt Wholesale Generator and Foreign Utility Company Status

| Docket Nos.
SunE Beacon Site 2 LLC | EG17-122-000
Great Bay Solar I, LLC | EG17-123-000
Lackawanna Energy Center LLC | EG17-124-000
SunE Beacon Site 5 LLC | EG17-125-000
Rattlesnake Power, LLC | EG17-126-000
Apple Blossom Wind, LLC | EG17-127-000
Stuttgart Solar, LLC | EG17-130-000
Cap Ridge Wind I, LLC | EG17-131-000
Cap Ridge Wind II, LLC | EG17-132-000
Cap Ridge Wind III, LLC | EG17-133-000
Cap Ridge Wind IV, LLC | EG17-134-000
Cap Ridge Interconnection, LLC | EG17-135-000
Aguaytia Energy del Peru SRL (I Squared Capital) | FC17-4-000

Take notice that during the month of September 2017, the status of the above-captioned entities as Exempt Wholesale Generators or Foreign Utility Companies became effective by operation of the Commission's regulations. 18 CFR 366.7(a) (2017).

Dated: October 11, 2017.
Nathaniel J. Davis, Sr.,
Deputy Secretary.

[FR Doc. 2017-22461 Filed 10-16-17; 8:45 am]

BILLING CODE 6717-01-P